DEPARTMENT OF LABOR

Employment and Training Administration

[TA-W-58,435]

Negative Determination Regarding Eligibility To Apply for Worker Adjustment Assistance and Alternative Trade Adjustment Assistance

In accordance with section 223 of the Trade Act of 1974, as amended (19 U.S.C. 2273), the Department of Labor herein presents the results of an investigation regarding certification of eligibility to apply for worker adjustment assistance. The group eligibility requirements for directly-impacted (primary) workers under Section 222(a) of the Trade Act of 1974, as amended, can be satisfied in either of two ways:

I. In section (a)(2)(A), all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. In section (a)(2)(B), both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

The investigation was initiated on December 1, 2005 in response to a petition filed by the International Association of Machinists and Aerospace Workers (IAMAW), Local 2067 on behalf of workers at Paxar Americas, Inc., Thomas Avenue Plant, a subsidiary of Paxar Corporation, Systems Division, Sayre, Pennsylvania. The workers at the subject firm produce electronic imprint machines (e.g., label printing machines). The subject firm also leased workers on-site from Adecco to produce electronic imprint machines.

The investigation revealed that criteria (a)(2)(A)(I.C) and (a)(2)(B)(II.B) were not met.

The investigation revealed that the subject firm did not import electronic imprint machines, nor did it shift production to a foreign country during 2003, 2004 or the period of January through November 2005.

The investigation also revealed that subject firm sales of electronic imprint machines increased from 2003 to 2004 and again during the period of January through November 2005 over the corresponding period in 2004.

The investigation further revealed that employment declines at the subject firm resulted from the introduction of a like and directly competitive product line requiring less time to manufacture and less labor.

In addition, in accordance with section 246 of the Trade Act of 1974 (26 U.S.C. 2813), as amended, the Department of Labor herein presents the results of its investigation regarding certification of eligibility to apply for alternative trade adjustment assistance (ATAA) for older workers.

In order for the Department to issue a certification of eligibility to apply for ATAA, the worker group must be certified eligible to apply for trade adjustment assistance (TAA). Since the workers are denied eligibility to apply for TAA, the workers cannot be certified eligible for ATAA.

Conclusion

After careful review of the facts obtained, I determine that all workers of Paxar Americas, Inc., Thomas Avenue Plant, a subsidiary of Paxar Corporation, Systems Division, including on-site leased workers of Adecco, Sayre, Pennsylvania are denied eligibility to apply for adjustment assistance under section 223 of the Trade Act of 1974, and alternative trade adjustment assistance under section 246 of the Trade Act of 1974.

Signed in Washington, DC this 28th day of December 2005.
Elliott S. Kushner,
Certifying Officer, Division of Trade Adjustment Assistance.

[FR Doc. E6-1494 Filed 2-2-06; 8:45 am]

BILLING CODE 4510-30-P